DEPARTMENT OF DEFENSE

GENERAL SERVICES ADMINISTRATION

NATIONAL AERONAUTICS AND SPACE ADMINISTRATION

48 CFR Parts 2, 3, 4, 7, 9, 11, 12, 13, 14, 15, 16, 18, 37, 42, 52, and 53

[FAR Case 2011-001; Docket 2011-0001; Sequence 1]

RIN 9000-AL82

Federal Acquisition Regulation; Organizational Conflicts of Interest

AGENCY: Department of Defense (DoD), General Services Administration (GSA), and National Aeronautics and Space Administration (NASA).

ACTION: Proposed rule; reopening of comment period.

SUMMARY: DoD, GSA, and NASA are proposing to amend the Federal Acquisition Regulation (FAR) to provide revised regulatory coverage on organizational conflicts of interest (OCIs), provide additional coverage regarding contractor access to nonpublic information, and add related provisions and clauses. Section 841 of the Duncan Hunter National Defense Authorization Act for Fiscal Year 2009 required a review of the FAR coverage on OCIs. This proposed rule was developed as a result of a review conducted in accordance with Section 841 by the Civilian Agency Acquisition Council and the Defense Acquisition Regulations Council (the Councils) and the Office of Federal Procurement Policy (OFPP), in consultation with the Office of Government Ethics (OGE). This proposed rule was preceded by an Advance Notice of Proposed Rulemaking (ANPR), under FAR Case 2007-018 (73 FR 15962), to gather comments from the public with regard to whether and how to improve the FAR coverage on OCIs. The comment period is being reopened for an additional 30 days to provide additional time for interested parties to review the proposed FAR changes.

DATES: The comment period for the proposed rule that published on April 26, 2011 at 76 FR 23236 is reopened. Interested parties should submit written comments to the Regulatory Secretariat at one of the addressees shown below on or before July 27, 2011 to be considered in the formation of the final rule.

ADDRESSES: Submit comments in response to FAR case 2011-001 by any of the following methods:

• Regulations.gov: http://www.regulations.gov. Submit comments via the Federal eRulemaking portal by inputting “FAR Case 2011-001” under the heading “Enter Keyword or ID” and selecting “Search.” Select the link “Submit a Comment” that corresponds with “FAR Case 2011-001.” Follow the instructions provided at the “Submit a Comment” screen. Please include your name, company name (if any), and “FAR Case 2011-001” on your attached document.

• Fax: (202) 501-4067.

• Mail: General Services Administration, Regulatory Secretariat (MVCB), ATTN: Hada Flowers, 1275 First Street, NE., 7th Floor, Washington, DC 20417.

Instructions: Please submit comments only and cite FAR Case 2011-001, in all correspondence related to this case. All comments received will be posted without change to http://www.regulations.gov, including any personal and/or business confidential information provided.

FOR FURTHER INFORMATION CONTACT: Mr. Anthony Robinson, Procurement Analyst, at (202) 501-2658, for clarification of content. For information pertaining to status or publication schedules, contact the Regulatory Secretariat at (202) 501-4755. Please cite FAR Case 2011-001.

SUPPLEMENTARY INFORMATION:

Background

The Councils published a proposed rule in the Federal Register at 76 FR 23236, April 26, 2011. The comment period is being reopened for an additional 30 days to provide additional time for interested parties to review the proposed FAR changes. Therefore, accordingly, the comment period for the proposed rule that published on April 26, 2011 at 76 FR 23236 is reopened.

Dated: June 23, 2011.
Millisa Gary,
Acting Director, Federal Acquisition Policy Division.

[FR Doc. 2011-16338 Filed 6-28-11; 8:45 am]

BILLING CODE 6820-EP-P